DEPARTMENT OF COMMERCE

International Trade Administration

[A-570-836]

Glycine From the People's Republic of China: Notice of Initiation of Antidumping Duty New Shipper Review

AGENCY: Import Administration, International Trade Administration, Department of Commerce.

SUMMARY: The Department of Commerce (the Department) has received a request for a new shipper review of the antidumping duty order on glycine from the People's Republic of China (the PRC). See Antidumping Duty Order: Glycine From the People's Republic of China, 60 FR 16115 (March 29, 1995) (Order). In accordance with section 751(a)(2)(B) of the Tariff Act of 1930, as amended (the Act), and 19 CFR 351.214(d), we are initiating an antidumping duty new shipper review of Hebei Donghua Jiheng Fine Chemical Co., Ltd. (Donghua Fine Chemical). The period of review (POR) of this new shipper review is March 1, 2012, through August 31, 2012.

DATES: Effective Date: October 30, 2012.

FOR FURTHER INFORMATION CONTACT: Brian Davis or Angelica Mendoza, AD/CVD Operations, Office 7, Import Administration, International Trade Administration, U.S. Department of Commerce, 14th Street and Constitution Avenue NW., Washington, DC 20230, telephone: (202) 482-7924 or (202) 482-3019, respectively.

SUPPLEMENTARY INFORMATION:

Background

On March 29, 1995, the Department published the antidumping duty order on glycine from the PRC. See Order. Thus, the antidumping duty order on glycine from the PRC has a March anniversary month. On September 28, 2012, the Department received a timely filed request for a new shipper review from Donghua Fine Chemical and Hebei Donghua Jiheng Chemical Co., Ltd. (Donghua Chemical). In its request for a review, Donghua Fine Chemical identified itself as both a producer and exporter of the subject merchandise and Donghua Chemical as a producer who provided the input product that was further processed by Donghua Fine Chemical to produce the subject merchandise that was exported to the United States. Both Donghua Fine Chemical and Donghua Chemical state that they are affiliates within the meaning of the Department's affiliation rules.¹

¹ See 771(33) of the Act and section 351.102(b)(3) of the Department's Regulations.

Pursuant to the requirements set forth in section 751(a)(2)(B)(i) of the Tariff Act of 1930, as amended (the Act), and 19 CFR 351.214(b)(2), Donghua Fine Chemical certified that (1) it did not export subject merchandise to the United States during the period of investigation (POI) (see section 751(a)(2)(B)(i)(I) of the Act and 19 CFR 351.214(b)(2)(i)); and (2) since the initiation of the investigation, it has never been affiliated with any company that exported subject merchandise to the United States during the POI, including those companies not individually examined during the investigation (see section 751(a)(2)(B)(i)(II) of the Act and 19 CFR 351.214(b)(2)(iii)(A)). Furthermore, as required by 19 CFR 351.214(b)(2), Donghua Fine Chemical's supplier, Donghua Chemical, provided certifications that (1) it did not export the subject merchandise to the United States during the POI or at any time following the POI and (2) since the initiation of the investigation, they have never been affiliated with any company that exported subject merchandise to the United States during the POI, including those companies not individually examined during the investigation. Additionally, in accordance with 19 CFR 351.214(b)(2)(iv), Donghua Fine Chemical submitted documentation establishing the following: (1) the date on which it first shipped subject merchandise to the United States; (2) the volume of its first shipment; and (3) the date of its first sale to an unaffiliated purchaser for exportation to the United States.

Initiation of Review

Based on information on the record and in accordance with section 751(a)(2)(B) of the Act, and 19 CFR 351.214(d), we find that the request meets the statutory and regulatory requirements for initiation of a new shipper review. See Memorandum to the File, through Angelica L. Mendoza, Program Manager, Antidumping and Countervailing Duty Operations, Office 7, regarding “Initiation of the Antidumping Duty New Shipper Review: Glycine from the People's Republic of China,” dated October 23, 2012 (NSR Initiation Checklist). Accordingly, we are initiating a new shipper review of the antidumping duty order on glycine from the PRC exported by Donghua Fine Chemical, for the period March 1, 2012, through August 31, 2012.

However, the Department has concerns with certain other information contained within the entry data received from U.S. Customs and Border Protection (CBP). Due to the business proprietary nature of this information, please refer to the NSR Initiation Checklist for further discussion. The Department intends to address this issue after initiation of the new shipper review. If the Department subsequently determines, based on information collected, that a new shipper review for Donghua Fine Chemical is not warranted, the Department expects to rescind the review or apply facts available pursuant to section 776 of the Act, as appropriate.

We intend to issue the preliminary results of this review no later than 180 days after the date on which this review is initiated, and the final results within 90 days after the date on which we issue the preliminary results. See section 751(a)(2)(B)(iv) of the Act and 19 CFR 351.214(h)(i).

We will instruct CBP to allow, at the option of the importer, the posting, until the completion of the review, of a bond or security in lieu of a cash deposit for certain entries of the subject merchandise exported and produced by Donghua Fine Chemical in accordance with section 751(a)(2)(B)(iii) of the Act and 19 CFR 351.214(e). Because Donghua Fine Chemical certified that it exports the subject merchandise, the sale of which forms the basis for its new shipper review request, we will instruct CBP to permit the use of a bond only for entries of subject merchandise which Donghua Fine Chemical exported.

Interested parties may submit applications for disclosure under administrative protective order in accordance with 19 CFR 351.305 and 351.306.

This initiation and this notice are issued and published in accordance with section 751(a)(2)(B) of the Act and 19 CFR 351.214 and 351.221(c)(1)(i).

Dated: October 23, 2012.
Christian Marsh,
Deputy Assistant Secretary for Antidumping and Countervailing Duty Operations.

[FR Doc. 2012-26671 Filed 10-29-12; 8:45 am]

BILLING CODE 3510-DS-P